DEPARTMENT OF LABOR

Employment and Training Administration

[TA-W-51,185]

Fishing Vessel (F/V) North Runner, Egegik, AK; Dismissal of Application for Reconsideration

Pursuant to 29 CFR 90.18(C) an application for administrative reconsideration was filed with the Director of the Division of Trade Adjustment Assistance for workers at Fishing Vessel (F/V) North Runner, Egegik, Alaska. The application contained no new substantial information which would bear importantly on the Department's determination. Therefore, dismissal of the application was issued.

TA-W-51,185; Fishing Vessel (F/V) North Runner, Egegik, Alaska (August 6, 2003)

Signed at Washington, DC this 12th day of August 2003.
Linda G. Poole,
Acting Director, Division of Trade Adjustment Assistance.

[FR Doc. 03-21279 Filed 8-19-03; 8:45 am]

BILLING CODE 4510-30-P